LIBRARY OF CONGRESS

Copyright Office

[Docket No. 2026-1]

Notice of Intent To Audit

AGENCY: U.S. Copyright Office, Library of Congress.

ACTION: Public notice.

SUMMARY: The U.S. Copyright Office is announcing receipt of notices of intent to conduct audits pursuant to the section 115 blanket license.

FOR FURTHER INFORMATION CONTACT: Rhea Efthimiadis, Assistant to the General Counsel, by email at meft@copyright.gov or telephone at 202-707-8350.

SUPPLEMENTARY INFORMATION:

I. Background

The Orrin G. Hatch-Bob Goodlatte Music Modernization Act (“MMA”) substantially amended the compulsory “mechanical” license for reproducing and distributing phonorecords of nondramatic musical works, including by creating a new blanket license administered by a mechanical licensing collective (“MLC”).¹ The MMA allows the MLC to periodically audit digital music providers (“DMPs”) operating under the blanket license to verify the accuracy of the DMPs' royalty payments made to the MLC.² To commence an audit, a notice must be filed with the Office and delivered to each party being audited. The Office must then cause notice to be published in the Federal Register within 45 days of receipt.³

¹ Public Law 115-264, 132 Stat. 3676 (2018); 17 U.S.C. 115.

² 17 U.S.C. 115(d)(4)(D).

³ Id. at 115(d)(3)(L)(i)(IV), (d)(4)(D)(i)(IV).

On December 26, 2025, the MLC submitted a notice of intent to conduct audits for the following DMPs for the period beginning on January 1, 2022 and ending on December 31, 2024:

1. CheckTheVolume.com;

2. MedRhythms, Inc.; and

3. Music Health Pty Ltd.

A copy of each notice will be made available on the Office's website at https://copyright.gov/music-modernization/audits/.

Dated: February 3, 2026.
Emily Chapuis,
General Counsel and Associate Register of Copyrights.

[FR Doc. 2026-02298 Filed 2-4-26; 8:45 am]

BILLING CODE 1410-30-P